NATIONAL CREDIT UNION ADMINISTRATION

Renewal of Agency Information Collections for Comments Request: Proposed Collections

AGENCY: National Credit Union Administration (NCUA).

ACTION: Notice and request for comments.

SUMMARY: The National Credit Union Administration (NCUA) will submit the following information collection requests to the Office of Management and Budget (OMB) for review and clearance in accordance with the Paperwork Reduction Act of 1995, on or after the date of publication of this notice.

DATES: Written comments should be received on or before July 5, 2023 to be assured consideration.

ADDRESSES: Interested persons are invited to submit written comments on the information collection to Mahala Vixamar, National Credit Union Administration, 1775 Duke Street, Alexandria, Virginia 22314, Suite 5067; Fax No. 703-519-8579; or Email at PRAComments@NCUA.gov.

FOR FURTHER INFORMATION CONTACT: Requests for additional information should be directed to the address above.

SUPPLEMENTARY INFORMATION:

OMB Number: 3133-0135.

Title: Authorization Agreement for Electronic Funds Transfers Payments.

Type of Review: Extension of a previously approved collection.

Abstract: NCUA is required under the Debt Collection Improvement Act of 1996 to issue payments to credit unions electronically. NCUA needs information to maintain up-to-date and accurate electronic payment data for new and existing credit unions. NCUA used the information on the Authorization Agreement for Electronic Funds Transfer Payments form to update their electronic routing and transit database to enable transmittal of funds and payments.

Affected Public: Private Sector: Not-for-profit institutions.

Estimated Total Annual Burden Hours: 25.

OMB Number: 3133-0151.

Type of Review: Extension of a previously approved collection.

Title: Leasing—12 CFR part 714.

Abstract: NCUA requires the financially responsible party to guarantee the excess when the residual value of a lease will exceed twenty-five percent of the original cost of the leased property. The federal credit union must obtain and have on file financial documentation demonstrating that the guarantor has the resources to meet the guarantee. If a manufacturer is involved, the federal credit union must review financial statements for the period that would establish a reasonable financial trend. If an insurance company is involved, it must have a major company rating of at least a B plus. The federal credit union will use the information as part of the risk assessment process to analyze and evaluate the financial capabilities and resources of a party that guarantees the residual value used in a leasing arrangement.

Affected Public: Private Sector: Not-for-profit institutions.

Estimated Total Annual Burden Hours: 830.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-09533 Filed 5-4-23; 8:45 am]

BILLING CODE 7535-01-P